DEPARTMENT OF TRANSPORTATION

Federal Aviation Administration

International Civil Aviation Organization's (ICAO) Dangerous Goods Panel; Notice of Public Meeting

AGENCY: Federal Aviation Administration (FAA), DOT.

ACTION: Notice of public meeting.

SUMMARY: In preparation for the twenty-third meeting of the International Civil Aviation Organization's (ICAO) Dangerous Goods Panel (DGP) to be held October 11-21, 2011, in Montreal, Quebec, Canada, the FAA's Office of Hazardous Materials Safety and the Pipeline and Hazardous Materials Safety Administration's (PHMSA) Office of Hazardous Materials Safety announce a public meeting on September 23, 2011.

DATES: The public meeting will be held on September 23, 2011 from 9 a.m. until 12:30 p.m.

ADDRESSES: The public meeting will be held at FAA Headquarters (FOB 10A), Bessie Coleman Conference Center, 2nd Floor, 800 Independence Avenue, SW., Washington, DC 20591.

Prior to September 9th, participants are requested to register at the following Web site: http://tinyurl.com/DOTPublicMeeting.

Conference call capabilities will be available. Connection information will be provided to those who register and indicate that they will participate via conference call.

FOR FURTHER INFORMATION CONTACT: Questions regarding the meeting should be directed to Ms. Janet McLaughlin, Division Manager, Office of Hazardous Materials Safety, International and Outreach Division, ADG-200, Federal Aviation Administration, 800 Independence Avenue, SW., Washington, DC 20591; telephone (202) 385-4916. E-mail: 9-AWA-ASH-ADG-HazMat@faa.gov.

We are committed to providing equal access to this meeting for all participants. If you need alternative formats or other reasonable accommodations, please call (202) 385-4916 or e-mail: 9-AWA-ASH-ADG-HazMat@faa.gov with your request by close of business on September 9th.

Purpose of the Public Meeting

Information and viewpoints provided by stakeholders are requested as the United States prepares for the 23rd International Civil Aviation Organization's Dangerous Goods Panel (ICAO DGP) Meeting. Proposals that are approved by the DGP will be incorporated into the 2013-2014 Edition of the Technical Instructions for the Safe Transport of Dangerous Goods by Air and related documents. The Department of Transportation seeks to harmonize domestic regulations with international standards when such harmonization is not unsafe, unnecessary, or contrary to the public interest. See 49 U.S.C. 5120.

The agenda for the ICAO DGP is as follows:

• Agenda Item 1: Development of proposals, if necessary, for amendments to Annex 18—The Safe Transport of Dangerous Goods by Air.

• Agenda Item 2: Development of recommendations for amendments to the Technical Instructions for the Safe Transport of Dangerous Goods by Air (Doc 9284) for incorporation in the 2013-2014 Edition.

• Agenda Item 3: Development of recommendations for amendments to the Supplement to the Technical Instructions for the Safe Transport of Dangerous Goods by Air (Doc 9284SU) for incorporation in the 2013-2014 Edition.

• Agenda Item 4: Development of recommendations for amendments to the Emergency Response Guidance for Aircraft Incidents involving Dangerous Goods (Doc 9481) for incorporation in the 2013-2014 Edition.

• Agenda Item 5: Resolution, where possible, of the non-recurrent work items identified by the Air Navigation Commission or the panel:

5.1: Review of provisions for the transport of lithium batteries.

5.2: Development of provisions for the carriage of dangerous goods on helicopters.

5.3: Review of provisions for information to the pilot-in-command.

5.4: Development of performance standards for State employees.

• Agenda Item 6: Other business.

Papers relevant to these agenda items can be viewed at the following webpage: http://www.icao.int/anb/fls/dangerousgoods/DGP/.

Public Meeting Procedures

A panel of representatives from the FAA and PHMSA will be present. The meetings are intended to be informal, non-adversarial, and to facilitate the public comment process. No individual will be subject to questioning by any other participant. Government representatives on the panel may ask questions to clarify statements. Unless otherwise stated, any statement made during the meetings by FAA or PHMSA representatives shall be neither construed as an official position of the government nor the final position of the decision of the US delegation.

There will be no admission fees or other charges to participate in the public meeting. The meeting will be open to all persons, subject to the capacity in the meeting room and lines available for those participating via conference call. Every effort will be made to accommodate all persons wishing to attend. The FAA and PHMSA will try to accommodate all speakers, subject to time constraints.

Issued in Washington, DC, on July 25, 2011.
Christopher Glasow,
Director, Office of Hazardous Materials Safety.

[FR Doc. 2011-19500 Filed 8-1-11; 8:45 am]

BILLING CODE ;P